DEPARTMENT OF THE INTERIOR

Fish and Wildlife Service

[Docket No. FWS-HQ-OCI-2025-0209; FVWF97820900000-XXX-FF09W13000 and FVWF54200900000-XXX-FF09W13000; OMB Control Number 1018-0088]

Agency Information Collection Activities; National Survey of Fishing, Hunting, and Wildlife Watching

AGENCY: Fish and Wildlife Service, Interior.

ACTION: Notice of information collection; request for comment.

SUMMARY: In accordance with the Paperwork Reduction Act of 1995 (PRA), we, the U.S. Fish and Wildlife Service (Service), are proposing to revise a currently approved information collection.

DATES: Interested persons are invited to submit comments on or before April 13, 2026.

ADDRESSES: Send your comments on the information collection request (ICR) by one of the following methods (please reference OMB Control No. 1018-0088 in the subject line of your comment):

• Internet (preferred): https://www.regulations.gov. Follow the instructions for submitting comments on Docket No. FWS-HQ-OCI-2025-0209.

• U.S. Mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid Office of Management and Budget (OMB) control number.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The information collected for the National Survey of Fishing, Hunting and Wildlife-Associated Recreation (FHWAR, or National Survey) assists the Service in administering the Wildlife and Sport Fish Restoration grant programs. The FHWAR, conducted about every 5 years since 1955, is a comprehensive survey of anglers, hunters, and wildlife watchers and includes information on their participation and how much they spend on these activities in the United States. The FHWAR provides up-to-date information on the uses and demands for wildlife-related recreation resources and a basis for developing and evaluating programs and projects to meet existing and future needs.

We collect the information in conjunction with carrying out our responsibilities under the Dingell-Johnson Sport Fish Restoration Act (16 U.S.C. 777-777m) and the Pittman-Robertson Wildlife Restoration Act (16 U.S.C. 669-669l). Under these Acts, we provide approximately $1 billion in grants annually to States for projects that support sport fish and wildlife management and restoration, including:

• Improvement of fish and wildlife habitats,

• Fishing and boating access,

• Fish stocking, and

• Hunting and fishing opportunities.

We also provide grants for aquatic education and hunter education, maintenance of completed projects, and research into problems affecting fish and wildlife resources. These projects help to ensure that the American people have adequate opportunities for fish and wildlife recreation. We conduct the survey about every 5 years. The 2027 FHWAR survey will be the 15th conducted since 1955. We coordinate the survey at the States' request, which is made through the Association of Fish and Wildlife Agencies. We will contract with a data collector to collect the information using internet, telephone, or mail-in paper-and-pencil instrument (PAPI).

Respondents are invited to take the survey with a mailed letter. The data collector will select a sample of sportspersons and wildlife watchers from a household screen and conduct three detailed interviews during the survey year. The survey collects information on the number of days of participation, and expenditures for trips and equipment. Information on the characteristics of participants includes age, income, sex, education, race, and State of residence. The Freshwater/Saltwater Ratio Questionnaire is designed to get freshwater and saltwater fishing data for coastal States. The Service's Wildlife and Sportfish Restoration Program is required to divide fishing management funds according to the ratio of freshwater and saltwater anglers in each coastal State.

Federal and State agencies use information from the survey to make policy decisions related to fish and wildlife restoration and management. Participation patterns and trend information help identify present and future needs and demands. Land management agencies use the data on expenditures and participation to assess the value of wildlife-related recreational uses of natural resources. Wildlife-related recreation expenditure information is used to estimate the impact on the economy and to support the dedication of tax revenues for fish and wildlife restoration programs.

Proposed Revisions

1. Change in Title of Information Collection—With the submission, the Service is proposing to change the title of the information collection from “National Survey of Fishing, Hunting, and Wildlife-Associated Recreation (FHWAR)” to “National Survey of Fishing, Hunting, and Wildlife Watching (FHWW).” The Service considers the wildlife-associated recreation reference to be dated and misleading, prompting the Service's intention to change the title of the Survey. The new title more accurately reflects the activities covered by the Survey, which will aid communication efforts.

2. Revisions to the Survey Instruments—The prior, previously approved questionnaire for the 2027 National Survey of Fishing, Hunting, and Wildlife-Associated Recreation (Survey) was based on the 2022 effort. Proposed revisions are intended to improve the quality, clarity, and utility of the information to be collected. Several of the revisions described below involve reinstating questions that were part of the Survey prior to 2022. The 2022 questionnaire was dramatically reduced in scope from the 2016 and 2011 efforts. Some of the questions that were eliminated significantly reduced the utility of the Survey. The Survey is composed of four different questionnaires (screen, fishing, hunting, and wildlife-watching) with each intended for different portions of the U.S. population. The changes to each are as follows:

A. Screen—The revisions to this questionnaire are as follows:

—The questionnaire already asks respondents about whether they participate in target or sport shooting. To this a follow-up question is added about how many days respondents participated in target or sport shooting (if answered “yes”).

—The questionnaire already asks respondents about whether they participate in archery. To this a follow-up question is added about how many days respondents participated in archery (if answered “yes”).

—The questionnaire already asks respondents whether they participate in motorized boating. Respondents are now also asked whether they participate in non-motorized boating.

—The questionnaire already asks respondents about whether they are likely to participate in wildlife watching around-the-home and away-from-home. For each activity, around-the-home and away-from-home, the revision adds two questions: one about whether 2026 was the first year of participation, and, if the respondent reports that it was not, a question about participation from 2022 to 2025.

—A question about the marital status of respondents is eliminated.

—Finally, a question is added to evaluate the public's approval of legalized hunting.

B. Hunting—We propose the following revisions to this questionnaire:

—Add a question about whether a respondent hunts with firearm, bow and arrow, or both firearm and bow and arrow. This information was collected in Surveys prior to 2022, and it will be added back in.

—A follow-up question is added about how many days one participates with bow and arrow.

—To improve accuracy of estimates, two new questions are added to about participation in hunting, which are used together to determine prior years participation: one asks whether 2027 was the first year of participation and if not, a follow up question asks about participation from 2022 through 2026. Prior year participation is already asked on the Screen, and these questions are added to the Hunting questionnaire to capture the information from respondents who did not complete a Screen.

—A question that is also on the Screen regarding participation in target shooting will be added to the hunter questionnaire to capture this information from respondents who do not complete the Screen.

—Add a question about how much more a person would be willing to spend to go on hunting trips.

—Add a question that asks respondents to identify species pursued on big game hunting trips. This information was collected in Surveys prior to 2022, and it will be reincorporated.

—Add a question that asks respondents to identify species pursued on migratory bird hunting trips. This information was collected in Surveys prior to 2022, and it will be reincorporated.

—Add a question that asks respondents to identify species pursued on small game hunting trips. This information was collected in Surveys prior to 2022, and it will be reincorporated.

—To enhance the quality of estimates, for each major purchase category like recreational vehicles, land leasing and ownership, a question is added to determine if someone would have still purchased the item if they could not have used it for hunting.

—Eliminate four questions related to land co-ownership and co-leasing and the number of acres owned or leased for the purposes of hunting.

—Two new questions are added about participation in around-the-home wildlife watching among hunters, which are used together to determine prior year participation: one asks whether 2027 was the first year of participation and if not, a follow up question asks about participation from 2022 through 2026. These questions are added to the Hunting questionnaire to capture the information from respondents who did not complete a Screen.

—Two new questions are added about participation in away-from-home wildlife watching among hunters, which are used together to determine prior year participation: one asks whether 2027 was the first year of participation and if not, a follow up question asks about participation from 2022 through 2026. these questions are added to the Hunting questionnaire to capture the information from respondents who did not complete a Screen.

—Two new questions are added that are used together to determine prior years participation of fishing among hunters: one asks whether 2027 was the first year of participation and if not, a follow up question asks about participation from 2022 through 2026. Prior year participation is already asked on the Screen, and these questions are added to capture the information from respondents who did not complete a Screen.

—The Screen contains a question about target shooting that will be added to the hunting questionnaire to capture this information from respondents who do not complete the Screen.

C. Fishing—We propose the following revisions to this questionnaire:

—A principal purpose of the Survey is to estimate the freshwater and saltwater fishing participation for all coastal states. To improve these estimates, two questions are added about freshwater and saltwater fishing participation in coastal states and one question is added about fishing for finfish or shellfish among saltwater anglers.

—Two questions are added about participation in fishing, which are used together to determine prior years participation: one asks whether 2027 was the first year of participation and if not, a follow up question asks about participation from 2022 through 2026. Prior year participation is already asked on the Screen, and these questions are added to capture the information from respondents who did not complete a Screen.

—Add a question to determine how much more a person would be willing to spend to go on fishing trips.

—Add a question that asks respondents to identify species pursued on freshwater fishing trips. This information was collected in Surveys prior to 2022, and it will be reincorporated.

—Add a question that asks respondents to identify species pursued on saltwater fishing trips. This information was collected in Surveys prior to 2022, and it will be reincorporated.

—To enhance the quality of estimates, for each major purchase category like recreational vehicles, land leasing and ownership, a question is added to determine if someone would have still purchased the item if they could not have used it for fishing.

—Four questions related to land co-ownership and co-leasing and the number of acres owned or leased were eliminated.

—Two questions are added about participation in around-the-home wildlife watching among anglers, which are used together to determine prior year participation: one asks whether 2027 was the first year of participation and if not, a follow up question asks about participation from 2022 through 2026.

—Two questions are added about participation in away-from-home wildlife watching among anglers, which are used together to determine prior year participation: one asks whether 2027 was the first year of participation and if not, a follow up question asks about participation from 2022 through 2026.

—Two questions are added that are used together to determine prior years participation in hunting among anglers: one asks whether 2027 was the first year of participation and if not, a follow up question asks about participation from 2022 through 2026. Prior year participation is already asked on the Screen, and these questions are added to the Fishing questionnaire to capture the information from respondents who did not complete a Screen.

—The Screen contains a question about target shooting that will be added to the fishing questionnaire to capture this information from respondents who do not complete the Screen.

D. Wildlife Watching—We propose the following revisions to this questionnaire:

—There are currently four questions related to bird watching on the questionnaire. For the 2022 collection, these questions were only on the last wave (wave three) of questionnaires. These questions will be included in waves one and two as well.

—For those participating in bird watching activities, a follow-up question is added regarding the types of birds viewed. This information was collected in Surveys prior to 2022, and it will be reincorporated.

—Two questions are added about participation in around-the-home wildlife watching, which are used together to determine prior year participation: one asks whether 2027 was the first year of participation and if not, a follow up question asks about participation from 2022 through 2026.

—Two questions are added about participation in away-from-home wildlife watching, which are used together to determine prior year participation: one asks whether 2027 was the first year of participation and if not, a follow up question asks about participation from 2022 through 2026.

—Add a question about how much more a person would be willing to spend to go on wildlife watching trips.

—The Screen contains a question about target shooting that will be added to the wildlife watching questionnaire to capture this information from respondents who do not complete the Screen.

—Two questions are added that are used together to determine prior years participation in fishing among wildlife watchers: one asks whether 2027 was the first year of participation and if not, a follow up question asks about participation from 2022 through 2026. Prior year participation is already asked on the Screen, and these questions are added to the wildlife-watching questionnaire to capture the information from respondents who did not complete a Screen.

—Two questions are added that are used together to determine prior years participation in hunting among wildlife watchers: one asks whether 2027 was the first year of participation and if not, a follow up question asks about participation from 2022 through 2026. Prior year participation is already asked on the Screen, and these questions are added to the wildlife-watching questionnaire to capture the information from respondents who did not complete a Screen.

—To enhance the quality of estimates, for each major purchase category like recreational vehicles, land leasing and ownership, a question is added to determine if someone would have still purchased the item if they could not have used it for hunting.

—Four questions related to the number of acres owned or leased, and co-ownership or leasing among partners are eliminated.

The public may request copies of any form or document contained in this information collection by sending a request to the Service Information Collection Clearance Officer in ADDRESSES, above.

Title of Collection: National Survey of Fishing, Hunting, and Wildlife-Associated Watching (FHWW).

OMB Control Number: 1018-0088.

Form Number: None.

Type of Review: Revision of a currently approved information collection.

Respondents/Affected Public: Individuals/households.

Respondent's Obligation: Voluntary.

Frequency of Collection: We estimate the next full survey will be conducted in 2027, or possibly 2028.

Total Estimated Annual Nonhour Burden Cost: None.

Activity | Estimated number of household responses | Median completion time per response (minutes) | Estimated burden hours *
Screener Survey:
Screener: Web | 48,540 | 13 | 10,517
Screener: Phone | 4,100 | 22 | 1,503
Screener: PAPI | 360 | 15 | 90
Wave 1 Survey:
Wave Questionnaires: Web | 18,238 | 13 | 3,952
Wave Questionnaires: Phone | 3,848 | 22 | 1,411
Wave Questionnaires: PAPI | 214 | 15 | 54
Wave 2 Survey:
Wave Questionnaires: Web | 16,599 | 13 | 3,596
Wave Questionnaires: Phone | 3,784 | 22 | 1,387
Wave Questionnaires: PAPI | 117 | 15 | 29
Wave 3 Survey:
Wave Questionnaires: Web | 73,238 | 14 | 17,089
Wave Questionnaires: Phone | 1,600 | 25 | 667
Wave Questionnaires: PAPI | 162 | 17 | 46
Wave 3 Coastal Freshwater/Saltwater Ratio Questionnaire | 13,500 | 3 | 675
Pre-test/Cognitive Interviews | 9 | 70 | 11
Grand Total | 184,309 |  | 41,026
* Rounded.

The authority for this action is the Paperwork Reduction Act of 1995 (44 U.S.C. 3501 et seq.).

Madonna Baucum,
Information Collection Clearance Officer, U.S. Fish and Wildlife Service.

[FR Doc. 2026-02831 Filed 2-11-26; 8:45 am]

BILLING CODE 4333-15-P